DEPARTMENT OF TRANSPORTATION

National Highway Traffic Safety Administration

RIN 2127-AI23

Reports, Forms and Record Keeping Requirements OMB Approval of Agency Information Collection Activity

AGENCY: National Highway Traffic Safety Administration, DOT

ACTION: Notice.

SUMMARY: On June 4, 2001 and July 5, 2001, we published Notices in the Federal Register reporting that we had submitted to the Office of Management and Budget (OMB) a request for an extension of a previously approved collection of information. Those Notices are located at 66 FR 30046 and 66 FR 35499 respectively. The approved collection of information pertained to a statutorily-mandated final rule requiring that any person who knowingly or willfully sells or leases a defective or noncompliant tire for use on a motor vehicle, with actual knowledge that the manufacturer of the tire has notified its dealers of the defect or noncompliance, report that sale or lease to us. The Federal Register published that Final Rule on July 23, 2001, and it may be reviewed at 66 FR 38159.

This Notice serves to inform the public that OMB has approved this collection of information and has assigned it OMB control number 2127-0610. This collection of information has been approved through July 31, 2004. This Notice also serves to remind the public that there is no obligation to respond to a collection of information without a valid OMB control number.

FOR FURTHER INFORMATION CONTACT: Jennifer T. Timian, NHTSA 400 Seventh Street, SW., Room 5219, NCC-10, Washington, DC 20590. Ms. Timian's telephone number is (202) 366-5263.

Issued on: August 30, 2001.
Kenneth N. Weinstein,
Associate Administrator for Safety Assurance.

[FR Doc. 01-22399 Filed 9-5-01; 8:45 am]

BILLING CODE 4910-59-P